DEPARTMENT OF HEALTH AND HUMAN SERVICES

Centers for Medicare & Medicaid Services

[CMS-2235-NC]

RIN 0938-AO38

State Children's Health Insurance Program (SCHIP); Redistribution of Unexpended SCHIP Funds From the Appropriation for Fiscal Year 2003; Additional Allotments to Eliminate SCHIP Fiscal Year 2006 Funding Shortfalls; and Provisions for Continued Authority for Qualifying States to Use a Portion of Certain SCHIP Funds for Medicaid Expenditures

Correction

In notice document 06-3833 beginning on page 20697 in the issue of Friday, April 21, 2006 make the following correction:

On page 20705 the graphic should appear as follows:

[FR Doc. C6-3833 Filed 4-28-06; 8:45 am]

BILLING CODE 1505-01-D